DEPARTMENT OF ENERGY

Federal Energy Regulatory Commission

[Docket No. RM12-3-000]

Revisions to Electric Quarterly Report Filing Process; Notice of Availability of Video Showing How To File Electric Quarterly Reports Using the Web Interface

Take notice that the Federal Energy Regulatory Commission (Commission) is making available on its Web site a video, which shows how to file Electric Quarterly Reports (EQRs) pursuant to Order No. 770,¹ using the web interface. Order No. 770 revised the process for filing EQRs. Pursuant to Order No. 770, one of the new processes for filing EQRs allows an EQR seller and its agent to file using a web interface that generally replicates the Commission-distributed software used currently. A video showing how EQRs can be filed using the web interface has been posted on the Commission's Web site at http://www.ferc.gov/docs-filing/eqr.asp.

¹ Revisions to Electric Quarterly Report Filing Process, Order No. 770, 77 FR 71288 (Nov. 30, 2012), FERC Stats. & Regs. [Regulation Preambles] ¶ 31,338 (cross-referenced at 141 FERC ¶ 61,120) (Nov. 15, 2012).

Any comments or questions concerning the video may be directed to eqr@ferc.gov. Please include “EQR Video” in the subject line of any such email.

We encourage all EQR filers to subscribe to our EQR RSS Feed to stay up-to-date on all updates.

Dated: May 31, 2013.
Kimberly D. Bose,
Secretary.

[FR Doc. 2013-13517 Filed 6-6-13; 8:45 am]

BILLING CODE 6717-01-P